DEPARTMENT OF TRANSPORTATION

Federal Aviation Administration

Noise Exposure Map Notice: Receipt of Noise Compatibility Program and Request for Review for Centennial Airport, Englewood, CO

AGENCY: Federal Aviation Administration (FAA), DOT.

ACTION: Notice.

SUMMARY: The Federal Aviation Administration (FAA) announces its determination that the noise-exposure maps (NEM's) submitted for Centennial Airport, Englewood, CO, under the provisions of 49 U.S.C. 47501 et seq. (Aviation Safety and Noise Abatement Act) and 14 CFR Part 150, are in compliance with applicable requirements. In conjunction with the NEM's, the FAA also announces that it is reviewing a proposed noise compatibility program (NCP) submitted for Centennial Airport, per 14 CFR Part 150. This program will be approved or disapproved on or before August 12, 2008.

DATES: Effective Date: The effective date of the FAA's determination on the NEM's and the start of the FAA's review of the associated NCP is February 14, 2008.

DATES: Comments must be received on or before April 22, 2008.

FOR FURTHER INFORMATION CONTACT: Linda Bruce, Federal Aviation Administration, Denver Airports District Office, 26805 E. 68th Avenue, Suite 224, Denver, CO 80249, telephone: 303-342-1264, e-mail: linda.bruce@faa.gov. Comments on the proposed noise compatibility program also should be submitted to the above office.

SUPPLEMENTARY INFORMATION: This notice announces the FAA's finding that NEM's submitted for Centennial Airport are in compliance with applicable requirements of 14 CFR Part 150, effective February 14, 2008. Further, the FAA is reviewing that airport's proposed NCP, which will be approved or disapproved on or before August 12, 2008. This notice also announces the availability of this proposed program for public review and comment.

Under 49 U.S.C., section 47503 (the Aviation Safety and Noise Abatement Act, hereinafter referred to as “the Act”), an airport operator may submit to the FAA NEM's that meet applicable regulations and depict non-compatible land uses, as of the date of submission of such maps; a description of projected aircraft operations; and the ways in which such operations will affect such maps. The Act requires such maps to be developed in consultation with interested and affected parties in the local community, government agencies, and persons using the airport.

An airport operator who has submitted NEM's that are found by the FAA to be in compliance with the requirements of Title 14 Code of Federal Regulations, Part 150, Airport Noise Compatibility Planning (14 CFR Part 150), promulgated pursuant to the Act, may submit to the FAA for approval a NCP that sets forth the measures the operator has taken or proposes to take to reduce existing non-compatible uses and prevent the introduction of additional non-compatible uses.

The Arapahoe County Public Airport Authority owns and operates Centennial Airport, located in the Denver suburb of Englewood, CO. In April 2002, the Executive Director of the Arapahoe County Public Airport Authority requested the FAA to review the NCP and NEM's for Centennial Airport, contained in the Centennial Airport FAR Part 150 Noise Exposure and Land Use Compatibility Study Program. The FAA requested corrections be made to the NCP, and worked with the airport authority to revise the study. Subsequently, the airport authority submitted to FAA a revised version of the compatibility study program in August 2003. Due to unrelated issues, FAA action on the study was delayed until June 2006, when the FAA issued a grant to the Arapahoe County Public Airport Authority to update Centennial Airport's noise exposure maps. This update was completed in November 2007.

On December 1, 2007, the Executive Director of the Arapahoe County Public Airport Authority submitted to the FAA NEM's, descriptions, and other documentation developed as part of an update to the Centennial Airport FAR Part 150 Noise Exposure and Land Use Compatibility Study Program. The authority requested the FAA to review this material and the NEM's, as described in section 47503 of the Act; and approve the noise mitigation measures, to be implemented jointly by the airport and surrounding communities, as a NCP under section 47504 of the Act.

These updated NEM's reference in this notice are the maps that FAA has determined are in compliance with application requirements. Further, the NCP submitted in conjunction with these updated NEM's and referenced in this notice, is the final version of the Centennial Airport FAR Part 150 Noise Exposure and Land Use Compatibility Study Program, dated August 2003.

The FAA has completed its review of the NEM's and related descriptions submitted for Centennial Airport. The specific documentation determined to constitute the NEM's includes the following from the Centennial Airport FAR Part 150 Noise Exposure and Land Use Compatibility Study Program and Centennial Airport Noise Contour Map Update:

• Supplemental chapter, titled Centennial Airport Noise Contour Map Update: Noise Contour and Population Analysis, provides—

—Updates to Forecasts of Aviation Activity (see pages 1-4)

—Figure 4, Revised 2006 Existing Noise Exposure Map (page 13)

—Figure 5, Revised Future 2012 Noise Exposure Map (page 15)

• Section B describes prior forecasts of aviation activity.

• Section C describes noise analysis used to develop the existing and future contours.

• Section D describes land use analysis.

• Section F describes the noise abatement alternative evaluation, including prior existing Noise Exposure Map (Figure F.17).

• Section G summarizes actions and recommendations, including prior Future Noise Exposure Map (Figure G.4).

• Section H—Public and Airport User Consultation Summary.

• Appendix—Public Hearing Comments and Responses and Public Involvement Plan.

The FAA has determined that these maps for Centennial Airport are in compliance with applicable requirements. This determination is effective on February 14, 2008. The FAA's determination on an airport operator's NEM's is limited to a finding that the maps were developed in accordance with the procedures contained in appendix A of 14 CFR part 150. Such determination does not constitute approval of the applicant's data, information or plans, or a commitment to approve a NCP or to fund the implementation of that program.

If questions arise concerning the precise relationship of specific properties to noise exposure contours depicted on a NEM submitted under section 47503 of the Act, it should be noted that the FAA is not involved in any way in determining the relative locations of specific properties with regard to the depicted noise contours, or in interpreting the NEM's to resolve questions concerning, for example, which properties should be covered by the provisions of section 47506 of the Act. These functions are inseparable from the ultimate land use control and planning responsibilities of local government. These local responsibilities are not changed in any way under 14 CFR Part 150 or through the FAA's review of NEM's. Therefore, the responsibility for the detailed overlaying of noise exposure contours onto the map depicting properties on the surface rests exclusively with the airport sponsor that submitted those maps, or with those public agencies and planning agencies with which consultation is required under section 47503 of the Act. The FAA has relied on the certification by the airport sponsor, under 14 CFR Part 150.21, that the statutorily required consultation has been accomplished.

The FAA has formally received the NCP for Centennial Airport, also effective on February 14, 2008. Preliminary review of the submitted material indicates that it conforms to the requirements for the submittal of a NCP, but requires further review prior to approval or disapproval of the program. The formal review period, limited by law to a maximum of 180 days, will be completed on or before August 12, 2008.

The FAA's detailed evaluation will be conducted under the provisions of 14 CFR Part 150.33. The primary considerations in the evaluation process are whether the proposed measures may reduce the level of aviation safety, create an undue burden or interstate or foreign commerce, or be reasonably consistent with obtaining the goal of reducing existing non-compatible land uses and preventing the introduction of additional non-compatible land uses.

Interested persons are invited to comment on the proposed program with specific reference to these factors. The FAA will consider, to the extent practicable, all comments, other than those properly addressed to local land use authorities. Electronic versions of the noise exposure map update and the proposed noise compatibility program are available at the following Internet sites:

1. http://www.faa.gov/airports_airtraffic/airports/regional_guidance/northwest mountain/environmental/.

2. www.centennialairport.com.

ADDRESSES: Paper copies of these documents are available for examination at the following locations:

1. Federal Aviation Administration, Airports Division, 1601 Lind Avenue, SW., Suite 315, Renton, Washington 98057-3356, (425) 227-2611.

2. Federal Aviation Administration, Denver Airports District Office, 26805 E. 68th Avenue, Suite 224, Denver, CO 80249-6361, (303) 342-1264.

3. Arapahoe County Public Airport Authority, 7800 South Peoria Street, Englewood, CO 80112, (303) 790-0598.

Issued in Renton, Washington, on February 14, 2008.
Donna P. Taylor,
Manager, Airports Division, Northwest Mountain Region.

[FR Doc. 08-788 Filed 2-21-08: 8:45 am]

BILLING CODE 4910-13-M